DEPARTMENT OF COMMERCE

National Oceanic and Atmospheric Administration

15 CFR Part 902

50 CFR Part 679

[Docket No. 191203-0100]

RIN 0648-BI53

Fisheries of the Exclusive Economic Zone Off Alaska; Halibut Deck Sorting Monitoring Requirements for Trawl Catcher/Processors Operating in Non-Pollock Groundfish Fisheries Off Alaska; Correction

AGENCY: National Marine Fisheries Service (NMFS), National Oceanic and Atmospheric Administration (NOAA), Commerce.

ACTION: Final rule; correcting amendments; stay of effectiveness.

SUMMARY: NMFS is correcting a final rule that published on October 15, 2019, issuing regulations to implement catch handling and monitoring requirements to allow Pacific halibut (halibut) bycatch to be sorted on the deck of trawl catcher/processors (C/Ps) and motherships participating in the non-pollock groundfish fisheries off Alaska. The final rule incorrectly stated that the collection-of-information requirements subject to the Paperwork Reduction Act (PRA) had been approved by the Office of Management and Business (OMB) at the time the final rule was published. The final rule also inadvertently omitted amendatory language to remove a now obsolete and unnecessary regulation. The intent of this final rule is to make corrections and to stay the effectiveness of associated collection-of-information requirements.

DATES: This rule is effective December 9, 2019. Effective December 9, 2019, 50 CFR 679.28(d)(9) and (10) and (l) and § 679.120(b), (c), (d), and (e) are stayed indefinitely.

FOR FURTHER INFORMATION CONTACT: Joseph Krieger, 907-586-7228 or joseph.krieger@noaa.gov.

SUPPLEMENTARY INFORMATION:

Need for Correction

NMFS published the final rule issuing regulations to implement catch handling and monitoring requirements to allow halibut bycatch to be sorted on the deck of trawl C/Ps and motherships participating in the non-pollock groundfish fisheries off Alaska in the Federal Register on October 15, 2019 (84 FR 55044). The final rule incorrectly stated that the collection-of-information requirements subject to the PRA had been approved by the OMB under Control Number 0648-0318 (North Pacific Observer Program) and Control Number 0648-0330 (Alaska Region, Scale and Catch Weighing Requirements) at the time the final rule was published. The effective date for the final rule's collection of information requirements is delayed. When OMB approval is received, NOAA will publish a document in the Federal Register announcing the effective date for these information collection requirements.

Although the proposed and final rule preambles explained that certain obsolete and unnecessary regulations would be removed, the final rule inadvertently omitted amendatory language to remove a now obsolete and unnecessary regulation. This rule corrects this error.

Classification

The Assistant Administrator for Fisheries, NOAA (AA), finds good cause to waive the requirement to provide prior notice and opportunity for public comment pursuant to the authority set forth at 5 U.S.C. 553(b)(B) as such requirement is unnecessary and contrary to the public interest. With respect to the final rule's inadvertent omission of amendatory text that would remove the obsolete and unnecessary regulation, the public was already provided with notice and opportunity to comment via electronic submission (www.regulations.gov/#!docketDetail;D=NOAA-NMFS-2018-0122) and by mail during the proposed rule public comment period which began on April 16, 2019 and ended on May 16, 2019. Further delay would result in public confusion with respect to the effectiveness of the remaining regulations established by the final rule.

For the reasons above, the AA also finds good cause under 5 U.S.C. 553(d)(3) to waive the 30-day delay in effective date and make this rule effective immediately upon publication.

Correction to Final Rule

In final rule FR Doc. 2019-22198, published on October 15, 2019 (84 FR 55044), the following corrections are made:

1. On page 55044, in the second column, under “National Oceanic and Atmospheric Administration”, “15 CFR 902.1” is removed and “15 CFR part 902” added in its place.

2. On page 55050, second column, the heading “OMB Revisions to PRA References in 15 CFR 902.1(b)” and corresponding paragraph are removed.

3. On page 55051, first column, the first sentence of the last paragraph is corrected to read as follows:

This final rule contains collection-of-information requirements subject to review and approval by the Office of Management and Budget (OMB) under the Paperwork Reduction Act (PRA). These requirements have been submitted to OMB for approval under Control Number 0648-0318 (North Pacific Observer Program) and Control Number 0648-0330 (Alaska Region, Scale and Catch Weighing Requirements). When approval is received, NMFS will announce in the Federal Register the effective date for these information collection requirements.

List of Subjects

15 CFR Part 902

Reporting and recordkeeping requirements.

50 CFR Part 679

Alaska, Fisheries, Pacific halibut, Recordkeeping and reporting requirements.

Dated: December 3, 2019.
Samuel D. Rauch III,
Deputy Assistant Administrator for Regulatory Programs, National Marine Fisheries Service.

Accordingly, 15 CFR part 902 and 50 CFR part 679 are corrected by making the following correcting amendments:

Title 15—Commerce and Foreign Trade

PART 902—NOAA INFORMATION COLLECTION REQUIREMENTS UNDER THE PAPERWORK REDUCTION ACT: OMB CONTROL NUMBERS

1. The authority citation for part 902 continues to read as follows:

Authority: 44 U.S.C. 3501 et seq.

§ 902.1 [Amended]

2. In § 902.1, in the table in paragraph (b), under the entry “50 CFR”, remove the entries for “679.28(l)”, “679.120(b)”, and “679.120(c), (d), and (e)”.

* * * * *

Title 50—Wildlife and Fisheries

PART 679—FISHERIES OF THE EXCLUSIVE ECONOMIC ZONE OFF ALASKA

3. The authority citation for 50 CFR part 679 continues to read as follows:

Authority: 16 U.S.C. 773 et seq.; 1801 et seq.; 3631 et seq.; Pub. L. 108-447; Pub. L. 111-281.

§ 679.28 [Amended]

4. Amend § 679.28 by removing paragraphs (i)(1)(iii) and (iv).

[FR Doc. 2019-26433 Filed 12-6-19; 8:45 am]

BILLING CODE 3510-22-P